DEPARTMENT OF JUSTICE

Notice of Lodging of Stipulation and Proposed Order Under the Comprehensive Environmental Response, Compensation, and Liability Act

On May 1, 2015, the Department of Justice lodged a Stipulation and Proposed Order Amending the Requirements Set Forth in Paragraph 13(c) of the Consent Decree (“Stipulation and Proposed Order”) with the United States District Court for the Southern District of Ohio in the lawsuit entitled United States of America v. Elsa Morgan-Skinner, et al, 1:00-cv-424.

In its February 21, 2001, amended complaint in this action, brought under Sections 106 and 107(a) of the Comprehensive Environmental Response. Compensation, and Liability Act, 42 U.S.C. 9606 and 9607(a), the United States sought: (1) Reimbursement of costs incurred by the United States for response actions at the Skinner Landfill Superfund Site in West Chester, Ohio (“Site”); and (2) performance of response work. On April 3, 2001, the Court entered a Consent Decree that required the Settling Generator/Transporter Defendants to conduct a remedial action at the Site. In particular, Paragraph 13(c) of the Consent Decree required the construction of an upgradient groundwater control system if the Environmental Protection Agency (“EPA”) determined that there would be prolonged contact between groundwater and waste material at the Site. Although monitoring established that such contact existed, EPA has determined that upgradient groundwater control is not needed because the contact has not caused significant groundwater contamination. In the lodged Stipulation and Proposed Order, the Parties seek to amend Paragraph 13(c) by striking the requirement for upgradient groundwater control. In the event that future monitoring identifies significant groundwater contamination, the amended Paragraph 13(c) requires the Settling Generator/Transporter Defendants to submit a plan to address the problem.

The publication of this notice opens a period for public comment on the Stipulation and Proposed Order. Comments should be addressed to the Assistant Attorney General, Environment and Natural Resources Division, and should refer to United States of America v. Elsa Morgan-Skinner, et al, D.J. Ref. No. 90-11-3-1620.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulation and Proposed Order may be examined and downloaded at this Justice Department Web site: http://www.usdoj.gov/enrd/Consent_Decrees.html. We will provide a paper copy of the Stipulation and Proposed Order upon written request and payment of reproduction costs. Please mail your request and payment to: Consent Decree Library, U.S. DOJ—ENRD, P.O. Box 7611, Washington, DC 20044-7611.

Please enclose a check or money order for $1.50 (25 cents per page reproduction cost) payable to the United States Treasury.

Randall M. Stone,
Acting Assistant Section Chief, Environmental Enforcement Section, Environment and Natural Resources Division.

[FR Doc. 2015-10955 Filed 5-6-15; 8:45 am]

BILLING CODE 4410-15-P